DEPARTMENT OF COMMERCE

Foreign-Trade Zones Board

[S-215-2019]

Foreign-Trade Zone 186—Waterville, Maine; Application for Subzone Expansion; Flemish Master Weavers, Sanford, Maine

An application has been submitted to the Foreign-Trade Zones Board (the Board) by the City of Waterville, grantee of FTZ 186, requesting an expansion of Subzone 186A on behalf of Flemish Master Weavers in Sanford, Maine. The application was submitted pursuant to the provisions of the Foreign-Trade Zones Act, as amended (19 U.S.C. 81a-81u), and the regulations of the Board (15 CFR part 400). It was formally docketed on October 18, 2019.

Subzone 186A currently consists of the following site: Site 1 (6.4 acres) 96 Gatehouse Road, Sanford. The proposed expansion would add 0.5 acres to the existing site. No authorization for expanded production activity has been requested at this time. The subzone will be subject to the existing activation limit of FTZ 186.

In accordance with the Board's regulations, Elizabeth Whiteman of the FTZ Staff is designated examiner to review the application and make recommendations to the Executive Secretary.

Public comment is invited from interested parties. Submissions shall be addressed to the Board's Executive Secretary and sent to: ftz@trade.gov. The closing period for their receipt is December 4, 2019. Rebuttal comments in response to material submitted during the foregoing period may be submitted during the subsequent 15-day period to December 19, 2019.

A copy of the application will be available for public inspection in the “Reading Room” section of the Board's website, which is accessible via www.trade.gov/ftz.

For further information, contact Elizabeth Whiteman at Elizabeth .Whiteman@trade.gov or (202) 482-0473.

Dated: October 21, 2019.
Andrew McGilvray,
Executive Secretary.

[FR Doc. 2019-23358 Filed 10-24-19; 8:45 am]

BILLING CODE 3510-DS-P